DEPARTMENT OF COMMERCE

International Trade Administration

[C-821-837]

Sodium Nitrite From the Russian Federation: Final Affirmative Countervailing Duty Determination

AGENCY: Enforcement and Compliance, International Trade Administration, U.S. Department of Commerce.

SUMMARY: The U.S. Department of Commerce (Commerce) determines that countervailable subsidies are being provided to producers and exporters of sodium nitrite from the Russian Federation (Russia) during the period of investigation January 1, 2021, through December 31, 2021.

DATES: Applicable June 28, 2022.

FOR FURTHER INFORMATION CONTACT: Melissa Porpotage, AD/CVD Operations, Office II, Enforcement and Compliance, International Trade Administration, U.S. Department of Commerce, 1401 Constitution Avenue NW, Washington, DC 20230; telephone: (202) 482-1413.

SUPPLEMENTARY INFORMATION:

Background

The petitioner in this investigation is Chemtrade Chemicals US LLC. In addition to the Government of Russia (GOR), the mandatory respondent in this investigation is UralChem, JSC (UralChem).

On April 15, 2022, Commerce published in the Federal Register the Preliminary Determination of this investigation.¹ We received no comments or case briefs addressing any of the findings in the Preliminary Determination; therefore, there is no unpublished Issues and Decision Memorandum accompanying this notice.

¹ See Sodium Nitrite from the Russian Federation: Preliminary Affirmative Countervailing Duty Determination, 87 FR 22504 (April 15, 2022) (Preliminary Determination), and accompanying Preliminary Decision Memorandum (PDM).

Period of Investigation

The period of investigation is January 1, 2021, through December 31, 2021.

Scope of the Investigation

The scope of this investigation covers sodium nitrite in any form, at any purity level from Russia. For a complete description of the scope of this investigation, see the appendix to this notice.

Analysis of Subsidy Programs—Adverse Facts Available (AFA)

For purposes of this final determination, we relied solely on facts available pursuant to section 776 of the Tariff Act of 1930, as amended, (the Act) because neither the GOR nor the selected mandatory respondent, UralChem, participated in this investigation. Further, because UralChem and the GOR did not cooperate to the best of their abilities in responding to our requests for information in this investigation, we drew adverse inferences in selecting from among the facts otherwise available, in accordance with sections 776(a)-(b) of the Act. Consistent with the Preliminary Determination,² we continue to apply AFA to determine the appropriate subsidy rates for this investigation. No interested party submitted comments on the subsidy rates selected in the Preliminary Determination. Thus, we made no changes to the subsidy rates for the final determination. A detailed discussion of our application of AFA is provided in the Preliminary Determination.³

² See Preliminary Determination PDM at 3-11.

³ Id.

All-Others Rate

As discussed in the Preliminary Determination, Commerce based the selection of the all-others rate on the countervailable subsidy rate established for the mandatory respondent, in accordance with section 705(c)(5)(A)(ii) of the Act.⁴ We made no changes to the selection of the all-others rate for this final determination.

⁴ See Preliminary Determination, 87 FR at 22504.

Final Determination

Commerce determines that the following estimated countervailable subsidy rates exist:

Company | Subsidy rate (percent ad valorem)
UralChem, JSC | 386.24
All Others | 386.24

Disclosure

Normally, Commerce discloses to interested parties the calculations performed in connection with a final determination within five days of any public announcement or, if there is no public announcement, within five days of the date of publication of the notice of final determination in the Federal Register, in accordance with 19 CFR 351.224(b). However, because there are no changes to the calculations from the Preliminary Determination, no additional disclosure is necessary.

Continuation of Suspension of Liquidation

In accordance with section 705(c)(4)(A) of the Act, Commerce intends to instruct U.S. Customs and Border Protection (CBP) to continue to suspend the liquidation of all appropriate entries of subject merchandise, as described in the appendix of this notice, entered, or withdrawn from warehouse, for consumption on or after April 15, 2022, which is the date of publication of the affirmative Preliminary Determination in the Federal Register, at the cash deposit rates indicated above. These suspension of liquidation instructions will remain in effect until further notice.

If the U.S. International Trade Commission (ITC) issues a final affirmative injury determination, we intend to issue a countervailing duty order and continue to require a cash deposit of estimated countervailing duties for such entries of subject merchandise in the amounts indicated above, in accordance with section 706(a) of the Act. If the ITC determines that material injury, or threat of material injury, does not exist, this proceeding will be terminated, and all estimated duties deposited as a result of the suspension of liquidation will be refunded or canceled.

ITC Notification

In accordance with section 705(d) of the Act, we intend to notify the ITC of our final affirmative determination that countervailable subsidies are being provided to producers and exporters of sodium nitrite from Russia. Because the final determination in this proceeding is affirmative, in accordance with section 705(b) of the Act, the ITC will make its final determination as to whether the domestic industry in the United States is materially injured, or threatened with material injury, by reason of imports of sodium nitrite from Russia no later than 45 days after our final determination.

If the ITC determines that material injury or threat of material injury does not exist, this proceeding will be terminated and all cash deposits will be refunded or canceled, as Commerce determines to be appropriate. If the ITC determines that such injury does exist, Commerce intends to issue a countervailing duty order directing CBP to assess, upon further instruction by Commerce, countervailing duties on all imports of the subject merchandise that are entered, or withdrawn from warehouse, for consumption on or after the effective date of the suspension of liquidation, as discussed above in the “Continuation of Suspension of Liquidation” section.

Administrative Protective Order (APO)

In the event that the ITC issues a final negative injury determination, this notice will serve as the only reminder to parties subject to an APO of their responsibility concerning the destruction of proprietary information disclosed under APO in accordance with 19 CFR 351.305(a)(3). Timely written notification of the return/destruction of APO materials or conversion to judicial protective order is hereby requested. Failure to comply with the regulations and terms of an APO is a sanctionable violation.

Notification to Interested Parties

This determination is issued and published pursuant to sections 705(d) and 777(i) of the Act, and 19 CFR 351.210(c).

Dated: June 22, 2022.
Lisa W. Wang,
Assistant Secretary for Enforcement and Compliance.

Appendix

Scope of the Investigation

The product covered by this investigation is sodium nitrite in any form, at any purity level. In addition, the sodium nitrite covered by this investigation may or may not contain an anti-caking agent. Examples of names commonly used to reference sodium nitrite are nitrous acid, sodium salt, anti-rust, diazotizing salts, erinitrit, and filmerine. Sodium nitrite's chemical composition is NaNO2, and it is generally classified under subheading 2834.10.1000 of the Harmonized Tariff Schedule of the United States (HTSUS). The American Chemical Society Chemical Abstract Service (CAS) has assigned the name “sodium nitrite” to sodium nitrite. The CAS registry number is 7632-00-0. For purposes of the scope of this investigation, the narrative description is dispositive, not the tariff heading, CAS registry number or CAS name, which are provided for convenience and customs purposes.

[FR Doc. 2022-13772 Filed 6-27-22; 8:45 am]

BILLING CODE 3510-DS-P